DEPARTMENT OF ENERGY

[OE Docket No. PP-304]

Application for Presidential Permit; Generadora del Desierto SA de C.V.

AGENCY: Office of Electricity Delivery and Energy Reliability, DOE.

ACTION: Notice of Application.

SUMMARY: Generadora del Desierto SA de C.V. (GDD) has applied for a Presidential permit to construct, operate, maintain, and connect an electric transmission line across the U.S. border with Mexico.

DATES: Comments, protests, or requests to intervene must be submitted on or before April 19, 2006.

ADDRESSES: Comments, protests, or requests to intervene should be addressed as follows: Office of Electricity Delivery and Energy Reliability (OE-20), U.S. Department of Energy, 1000 Independence Avenue, SW., Washington, DC 20585-0350.

FOR FURTHER INFORMATION CONTACT: Ellen Russell (Program Office) 202-586-9624 or Michael T. Skinker (Program Attorney) 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On September 23, 2005, GDD, a Mexican corporation and wholly-owned affiliate of North Branch Holding, LLC, filed an application with the Office of Electricity Delivery and Energy Reliability (OE) of the Department of Energy (DOE) for a Presidential permit. GDD proposes to construct a double-circuit 500-kilovolt (500-kV) electric transmission line across the U.S.-Mexico international border. The proposed facilities would extend from a new electric power plant to be constructed by GDD approximately one mile south of the U.S.-Mexico border in San Luis Rio Colorado, Sonora, Mexico, cross the U.S.-Mexico international border, extend approximately 20 miles, north and connect to the existing Gila Substation owned and operated by Western Area Power Administration (Western). From the Gila Substation, the line would extend an additional four miles north and connect to the existing North Gila Substation owned and operated by Arizona Public Service Company.

In a related proceeding, North Branch Resources, LLC (NBR), also a North Branch Holding, LLC affiliate, has applied to Western to connect the proposed international transmission line and the Mexico power plant to Western's transmission system. If the interconnection request is granted by Western and the proposed project proceeds, NBR proposes that Western construct, own, operate, and maintain the new transmission facilities in the U.S. at the expense of NBR. Western is considering this proposal and may ultimately assume those responsibilities. If that were to happen, Western would become a co-applicant for the Presidential permit.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the FPA and articulated in Federal Energy Regulatory Commission (FERC) Order No. 888 (Promoting Wholesale Competition Through Open Access Non-Discriminatory Transmission Services by Public utilities; FERC Stats. & Regs. ¶ 31,036 (1996)), as amended. In furtherance of this policy, DOE intends to condition any Presidential permit issued in this proceeding on compliance with these open access principles.

Procedural Matters

Any person desiring to become a party to this proceeding or to be heard by filing comments or protests to this application should file a petition to intervene, comment, or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Leonard H. Singer, Esq., Couch White, LLP, 540 Broadway, P.O. Box 22222, Albany, New York, 12201 and Joseph Bojnowski, North Branch Resources, LLC, 6 North Branch Road, Newton, CN, 06470.

Before a Presidential permit may be issued or amended, the DOE must determine that the proposed action will not adversely impact on the reliability of the U.S. electric power supply system. DOE also must obtain the concurrence of the Secretary of State and the Secretary of Defense before taking final action on a Presidential permit application. In addition, DOE must consider the environmental impacts of the proposed action (i.e., granting the Presidential permit, with any conditions and limitations, or denying the permit) pursuant to the National Environmental Policy Act (NEPA). OE and Western propose to prepare a single Environmental Impact Statement (EIS) to address the environmental impacts of the Federal actions of granting the requested Presidential permit and allowing connection of the international transmission line and Mexico power plant to the Federal transmission system. The EIS will be prepared in accordance with the requirements of the Council on Environmental Quality's NEPA Implementing Regulations (40 CFR parts 1500-1508) and DOE's NEPA Implementing Procedures (10 CFR part 1021).

Copies of this application will be made available, upon request, for public inspection and copying at the address provided above or by accessing the program's Home Page at http://www.fe.doe.gov/programs/electricityregulation/. Upon reaching the Home page, select “Pending Proceedings.”

Issued in Washington, DC, on March 13, 2006.
Anthony J. Como,
Director, Permitting and Siting, Office of Electricity Delivery and Energy Reliability.

[FR Doc. E6-3991 Filed 3-17-06; 8:45 am]

BILLING CODE 6450-01-P